DEPARTMENT OF HEALTH AND HUMAN SERVICES

Office of the Secretary

Agency Information Collection Activities; Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: “National Study of Culturally and Linguistically Appropriate Services in Local Public Health Agencies”—New—The Office of Minority Health proposes to conduct a survey with a national sample of local health departments serving racially and ethnically diverse communities. The survey will provide data on the types of policies and practices that promote the delivery of culturally and linguistically appropriate services by local health departments, and the factors that facilitate and detract from the implementation of such policies and practices. The data collected will inform the Office of Minority Health about the current nature and extent of such services.

Respondents: Business or other for-profit, Non-profit organizations;

Number of Respondents: 150;

Response per Respondent: 3;

Average Burden per Response: 30 minutes;

Total Burden: 225 hours.

Send comments via e-mail to Geerie.Jones@HHS.gov. or mail to OS Reports Clearance Office, Room 503H, Hubert H. Humphrey Building, 200 Independence Avenue SW., Washington DC, 20201. Comments should be received within 60 days of this notice.

Dated: April 15, 2002.
Kerry Weems,
Acting, Deputy Assistant Secretary, Budget.

[FR Doc. 02-9873 Filed 4-22-02; 8:45 am]

BILLING CODE 4150-29-M